DEPARTMENT OF HEALTH AND HUMAN SERVICES

National Institutes of Health

National Cancer Institute; Amended Notice of Meeting

Notice is hereby given of a change in the meeting of the Subcommittee A—Cancer Centers, December 5, 2013, 08:00 a.m. to December 6, 2013, 01:00 p.m., Doubletree Hotel Bethesda, (Formerly Holiday Inn Select), 8120 Wisconsin Avenue, Bethesda, MD 20814, which was published in the Federal Register on October 28, 2013, 78FR64222.

Due to the absence of either an FY 2014 appropriation or Continuing Resolution for the Department of Health and Human Services, the meeting is rescheduled for January 13-14, 2013. The meeting times and location remain the same. The meeting is closed to the public.

Dated: October 30, 2013.
Melanie J. Gray,
Program Analyst, Office of Federal Advisory Committee Policy.

[FR Doc. 2013-26422 Filed 11-4-13; 8:45 am]

BILLING CODE 4140-01-P